LEGAL SERVICES CORPORATION

Notice of Intent To Award—Grant Awards for the Provision of Civil Legal Services to Eligible Low-Income Clients Beginning January 1, 2010

AGENCY: Legal Services Corporation.

ACTION: Announcement of intention to make FY 2010 Competitive Grant Awards.

SUMMARY: The Legal Services Corporation (LSC) hereby announces its intention to award grants and contracts to provide economical and effective delivery of high quality civil legal services to eligible low-income clients, beginning January 1, 2010.

DATES: All comments and recommendations must be received on or before the close of business on November 30, 2009.

ADDRESSES: Legal Services Corporation—Competitive Grants, Legal Services Corporation; 3333 K Street, NW., Third Floor; Washington, DC 20007.

FOR FURTHER INFORMATION CONTACT: Reginald Haley, Office of Program Performance, at (202) 295-1545, or haleyr@lsc.gov.

SUPPLEMENTARY INFORMATION: Pursuant to LSC's announcement of funding availability on April 3, 2009 (74 FR 15307), and Grant Renewal applications due on June 5, 2009, LSC intends to award funds to the following organizations to provide civil legal services in the indicated service areas. Amounts are subject to change.

Service area | Applicant name | Estimated annualized grant amount
Alabama
AL-4 | Legal Services Alabama, Inc | $6,850,344
MAL | Texas RioGrande Legal Aid, Inc | 35,083
Alaska
AK-1 | Alaska Legal Services Corporation | 793,046
NAK-1 | Alaska Legal Services Corporation | 577,924
Arizona
AZ-3 | Community Legal Services, Inc | 4,153,841
MAZ | Community Legal Services, Inc | 158,313
NAZ-6 | Southern Arizona Legal Aid, Inc | 681,151
AZ-5 | Southern Arizona Legal Aid, Inc | 2,003,430
AZ-2 | DNA-Peoples Legal Services, Inc | 575,485
NAZ-5 | DNA-Peoples Legal Services, Inc | 2,788,510
Arkansas
AR-6 | Legal Aid of Arkansas, Inc | 1,595,491
AR-7 | Center for Arkansas Legal Services | 2,381,642
MAR | Texas RioGrande Legal Aid, Inc | 84,280
California
NCA-1 | California Indian Legal Services, Inc | 944,111
CA-1 | California Indian Legal Services, Inc | 36,227
CA-2 | Greater Bakersfield Legal Assistance, Inc | 1,006,445
CA-26 | Central California Legal Services, Inc | 3,148,767
CA-29 | Legal Aid Foundation of Los Angeles | 8,696,359
CA-30 | Neigh. Legal Services of Los Angeles County | 5,136,861
CA-12 | Inland Counties Legal Services, Inc | 4,471,848
CA-27 | Legal Services of Northern California, Inc | 3,890,801
CA-14 | Legal Aid Society of San Diego, Inc | 3,127,098
CA-31 | California Rural Legal Assistance, Inc | 5,133,448
MCA | California Rural Legal Assistance, Inc | 2,814,831
CA-28 | Bay Area Legal Aid | 4,586,813
CA-19 | Legal Aid Society of Orange County, Inc | 4,367,713
Colorado
MCO | Colorado Legal Services | 158,362
NCO-1 | Colorado Legal Services | 102,625
CO-6 | Colorado Legal Services | 3,677,925
Connecticut
CT-1 | Statewide Legal Services of Connecticut, Inc | 2,541,859
NCT-1 | Pine Tree Legal Assistance, Inc | 16,729
Delaware
DE-1 | Legal Services Corporation of Delaware, Inc | 662,971
MDE | Legal Aid Bureau, Inc | 26,473
District of Columbia
DC-1 | Neigh. Legal Svcs. Prog. of the District of Columbia | 1,080,014
Florida
FL-15 | Community Legal Services of Mid-Florida, Inc | 3,305,000
FL-17 | Florida Rural Legal Services, Inc | 2,952,304
MFL | Florida Rural Legal Services, Inc | 957,642
FL-5 | Legal Services of Greater Miami, Inc | 3,785,670
FL-13 | Legal Services of North Florida, Inc | 1,554,470
FL-16 | Bay Area Legal Services, Inc | 2,804,307
FL-14 | Three Rivers Legal Services, Inc | 1,914,642
FL-18 | Coast to Coast Legal Aid of South Florida, Inc | 1,985,016
Georgia
GA-1 | Atlanta Legal Aid Society, Inc | 2,761,373
MGA | Georgia Legal Services Program | 418,059
GA-2 | Georgia Legal Services Program | 7,017,011
Guam
GU-1 | Guam Legal Services Corporation | 343,158
Hawaii
HI-1 | Legal Aid Society of Hawaii | 1,483,801
NHI-1 | Legal Aid Society of Hawaii | 244,785
Idaho
MID | Idaho Legal Aid Services, Inc | 199,304
ID-1 | Idaho Legal Aid Services, Inc | 1,267,660
NID-1 | Idaho Legal Aid Services, Inc | 69,426
Illinois
IL-6 | Legal Assistance Foundation of Metro. Chicago | 6,889,708
MIL | Legal Assistance Foundation of Metro. Chicago | 266,177
IL-3 | Land of Lincoln Legal Assistance Foundation, Inc | 2,639,386
IL-7 | Prairie State Legal Services, Inc | 2,947,490
Indiana
MIN | Indiana Legal Services, Inc | 121,238
IN-5 | Indiana Legal Services, Inc | 5,397,030
Iowa
MIA | Iowa Legal Aid | 40,232
IA-3 | Iowa Legal Aid | 2,504,537
Kansas
MKS | Kansas Legal Services, Inc | 12,674
KS-1 | Kansas Legal Services, Inc | 2,530,329
Kentucky
KY-10 | Legal Aid of the Bluegrass | 1,353,568
KY-2 | Legal Aid Society, Inc | 1,256,416
KY-5 | Appalachian Research and Defense Fund of KY | 2,168,164
KY-9 | Kentucky Legal Aid | 1,302,427
MKY | Texas RioGrande Legal Aid, Inc | 45,380
Louisiana
LA-1 | Capital Area Legal Services Corporation | 1,511,082
LA-10 | Acadiana Legal Service Corporation | 2,140,390
LA-11 | Legal Services of North Louisiana, Inc | 2,008,214
LA-12 | Southeast Louisiana Legal Services Corporation | 2,705,597
MLA | Texas RioGrande Legal Aid, Inc | 29,363
Maine
NME-1 | Pine Tree Legal Assistance, Inc | 68,877
ME-1 | Pine Tree Legal Assistance, Inc | 1,259,927
MMX-1 | Pine Tree Legal Assistance, Inc | 133,172
Maryland
MMD | Legal Aid Bureau, Inc | 96,945
MD-1 | Legal Aid Bureau, Inc | 4,229,777
Massachusetts
MA-11 | Vol. Lawyers Project of the Boston Bar Association | 2,171,301
MA-12 | New Center for Legal Advocacy, Inc | 973,255
MA-4 | Merrimack Valley Legal Services, Inc | 884,960
MA-10 | Massachusetts Justice Project, Inc | 1,608,471
Michigan
MI-12 | Legal Services of South Central Michigan | 1,362,366
MMI | Legal Services of South Central Michigan | 641,844
MI-14 | Legal Services of Eastern Michigan | 1,461,076
MI-9 | Legal Services of Northern Michigan, Inc | 752,922
MI-15 | Legal Aid of Western Michigan | 1,777,900
MI-13 | Legal Aid and Defender Association, Inc | 4,080,124
NMI-1 | Michigan Indian Legal Services, Inc | 175,912
Micronesia
MP-1 | Micronesian Legal Services, Inc | 1,758,765
Minnesota
MN-1 | Legal Aid Service of Northeastern Minnesota | 445,607
MN-6 | Central Minnesota Legal Services, Inc | 1,396,463
MN-4 | Legal Services of Northwest Minnesota Corporation | 399,378
MMN | Southern Minnesota Regional Legal Services, Inc | 213,340
MN-5 | Southern Minnesota Regional Legal Services, Inc | 1,297,900
NMN-1 | Anishinabe Legal Services, Inc | 255,379
Mississippi
MS-9 | North Mississippi Rural Legal Services, Inc | 2,139,788
MS-10 | Mississippi Center for Legal Services | 3,205,135
NMS-1 | Choctaw Legal Defense | 88,831
MMS | Texas RioGrande Legal Aid, Inc | 60,856
Missouri
MMO | Legal Aid of Western Missouri | 86,865
MO-3 | Legal Aid of Western Missouri | 1,893,515
MO-4 | Legal Services of Eastern Missouri, Inc | 2,090,522
MO-5 | Mid-Missouri Legal Services Corporation | 416,737
MO-7 | Legal Services of Southern Missouri | 1,803,968
Montana
MT-1 | Montana Legal Services Association | 1,207,781
NMT-1 | Montana Legal Services Association | 170,153
MMT | Montana Legal Services Association | 58,202
Nebraska
MNE | Legal Aid of Nebraska | 45,084
NE-4 | Legal Aid of Nebraska | 1,545,534
NNE-1 | Legal Aid of Nebraska | 35,323
Nevada
MNV | Nevada Legal Services, Inc | 2,683
NNV-1 | Nevada Legal Services, Inc | 142,099
NV-1 | Nevada Legal Services, Inc | 2,026,017
New Hampshire
NH-1 | Legal Advice & Referral Center, Inc | 763,949
New Jersey
NJ-15 | Legal Services of Northwest Jersey | 418,888
MNJ | South Jersey Legal Services, Inc | 128,665
NJ-16 | South Jersey Legal Services, Inc | 1,426,013
NJ-18 | Northeast New Jersey Legal Services Corporation | 1,894,206
NJ-8 | Essex-Newark Legal Services Project, Inc | 1,159,185
NJ-12 | Ocean-Monmouth Legal Services, Inc | 709,998
NJ-17 | Central Jersey Legal Services, Inc | 1,163,969
New Mexico
NNM-2 | DNA-Peoples Legal Services, Inc | 24,277
NM-1 | DNA-Peoples Legal Services, Inc | 231,458
NM-5 | New Mexico Legal Aid | 2,919,726
MNM | New Mexico Legal Aid | 93,128
NNM-4 | New Mexico Legal Aid | 496,521
New York
NY-21 | Legal Aid Society of Northeastern New York, Inc | 1,432,907
NY-24 | Neighborhood Legal Services, Inc | 1,433,676
NY-7 | Nassau/Suffolk Law Services Committee, Inc | 1,483,179
NY-9 | Legal Services for New York City | 16,281,457
NY-23 | Legal Assistance of Western New York, Inc | 1,841,152
MNY | Legal Aid Society of Mid-New York, Inc | 295,154
NY-22 | Legal Aid Society of Mid-New York, Inc | 1,878,198
NY-20 | Legal Services of the Hudson Valley | 1,907,837
North Carolina
NC-5 | Legal Aid of North Carolina, Inc | 8,883,975
MNC | Legal Aid of North Carolina, Inc | 571,490
NNC-1 | Legal Aid of North Carolina, Inc | 233,222
North Dakota
MND | Southern Minnesota Regional Legal Services, Inc | 123,595
NND-3 | Legal Services of North Dakota | 287,855
ND-3 | Legal Services of North Dakota | 600,922
Ohio
OH-20 | Community Legal Aid Services, Inc | 1,776,943
OH-18 | Legal Aid Society of Greater Cincinnati | 1,535,839
OH-21 | The Legal Aid Society of Cleveland | 2,260,819
OH-17 | Ohio State Legal Services | 1,821,199
OH-5 | Ohio State Legal Services | 1,359,624
OH-23 | Legal Aid of Western Ohio, Inc | 2,658,017
MOH | Legal Aid of Western Ohio, Inc | 134,316
Oklahoma
NOK-1 | Oklahoma Indian Legal Services, Inc | 874,972
OK-3 | Legal Aid Services of Oklahoma, Inc | 4,778,395
MOK | Legal Aid Services of Oklahoma, Inc | 66,724
Oregon
NOR-1 | Legal Aid Services of Oregon | 197,267
MOR | Legal Aid Services of Oregon | 593,958
OR-6 | Legal Aid Services of Oregon | 3,240,238
Pennsylvania
PA-1 | Philadelphia Legal Assistance Center | 3,272,619
MPA | Philadelphia Legal Assistance Center | 176,728
PA-5 | Laurel Legal Services, Inc | 813,058
PA-25 | MidPenn Legal Services, Inc | 2,345,178
PA-8 | Neighborhood Legal Services Association | 1,772,268
PA-24 | North Penn Legal Services, Inc | 1,916,960
PA-11 | Southwestern Pennsylvania Legal Services, Inc | 590,703
PA-26 | Northwestern Legal Services | 773,487
PA-23 | Legal Aid of Southeastern Pennsylvania | 1,201,685
Puerto Rico
PR-1 | Puerto Rico Legal Services, Inc | 17,262,485
MPR | Puerto Rico Legal Services, Inc | 310,018
PR-2 | Community Law Office, Inc | 365,459
Rhode Island
RI-1 | Rhode Island Legal Services, Inc | 1,187,098
South Carolina
MSC | Georgia Legal Services Program | 210,913
SC-8 | South Carolina Legal Services, Inc | 5,192,794
MSC | South Carolina Legal Services, Inc | 210,913
South Dakota
SD-2 | East River Legal Services | 430,940
MSD | Dakota Plains Legal Services, Inc | 4,231
NSD-1 | Dakota Plains Legal Services, Inc | 997,769
SD-4 | Dakota Plains Legal Services, Inc | 510,703
Tennessee
TN-9 | Legal Aid of East Tennessee | 2,315,480
TN-4 | Memphis Area Legal Services, Inc | 1,515,836
TN-10 | Legal Aid Soc. of Middle TN and the Cumberlands | 2,759,548
TN-7 | West Tennessee Legal Services, Inc | 707,187
MTN | Texas RioGrande Legal Aid, Inc | 67,632
Texas
TX-14 | Legal Aid of NorthWest Texas | 8,068,757
TX-13 | Lone Star Legal Aid | 10,226,812
NTX-1 | Texas RioGrande Legal Aid, Inc | 33,445
TX-15 | Texas RioGrande Legal Aid, Inc | 10,972,712
MTX | Texas RioGrande Legal Aid, Inc | 1,481,128
Utah
UT-1 | Utah Legal Services, Inc | 1,962,715
NUT-1 | Utah Legal Services, Inc | 87,916
MUT | Utah Legal Services, Inc | 72,326
Vermont
VT-1 | Legal Services Law Line of Vermont, Inc | 538,823
Virgin Islands
VI-1 | Legal Services of the Virgin Islands, Inc | 344,529
Virginia
VA-15 | Southwest Virginia Legal Aid Society, Inc | 874,959
VA-16 | Legal Aid Society of Eastern Virginia | 1,511,526
VA-18 | Central Virginia Legal Aid Society, Inc | 1,073,751
MVA | Central Virginia Legal Aid Society, Inc | 168,176
VA-17 | Virginia Legal Aid Society, Inc | 910,812
VA-19 | Blue Ridge Legal Services, Inc | 757,598
VA-20 | Legal Services of Northern Virginia, Inc | 1,179,720
Washington
MWA | Northwest Justice Project | 778,310
WA-1 | Northwest Justice Project | 5,261,580
NWA-1 | Northwest Justice Project | 304,414
West Virginia
WV-5 | Legal Aid of West Virginia, Inc | 3,075,741
MWV | Legal Aid of West Virginia, Inc | 38,979
Wisconsin
MWI | Legal Action of Wisconsin, Inc | 97,083
WI-5 | Legal Action of Wisconsin, Inc | 3,417,143
WI-2 | Wisconsin Judicare, Inc | 939,355
NWI-1 | Wisconsin Judicare, Inc | 165,766
Wyoming
WY-4 | Legal Aid of Wyoming, Inc | 527,007
NWY-1 | Legal Aid of Wyoming, Inc | 184,660
MWY | Legal Aid of Wyoming, Inc | 13,266

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2010.

Dated: October 21, 2009.
Janet LaBella,
Director, Office of Program Performance, Legal Services Corporation.

[FR Doc. E9-26005 Filed 10-28-09; 8:45 am]

BILLING CODE 7050-01-P